DEPARTMENT OF DEFENSE

Department of the Army

Privacy Act of 1974; System of Records

AGENCY: Department of the Army, DOD.

ACTION: Notice to Amend Systems of Records.

SUMMARY: The Department of the Army is amend a system of records notice in its existing inventory of record systems subject to the Privacy Act of 1974, (5 U.S.C. 552a), as amended.

DATES: This proposed action will be effective without further notice on November 6, 2000, unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390; or Ms. Christie King at (703) 806-3711 or DSN 656-3711.

SUPPLEMENTARY INFORMATION: The Department of the Army systems of records notices subject to the Privacy Act of 1974 (5 U.S.C. 552a), as amended, have been published in the Federal Register and are available from the address above.

The specific changes to the record system being amended are set forth below followed by the notice, as amended, published in its entirety.

The proposed amendments are not within the purview of subsection (r) of the Privacy Act of 1974 (5 U.S.C. 552a), as amended, which requires the submission of new a or altered system report.

A0145-2 TRADOC

SYSTEM NAME:

Junior ROTC/NDCC Instructor Files (February 2, 1996, 61 FR 3914).

CHANGES:

* * * * *

CATEGORIES OF INDIVIDUALS COVERED BY THE SYSTEM:

Delete from entry ‘and guest speakers at above locations’.

AUTHORITY FOR MAINTENANCE OF THE SYSTEM:

Delete entry and replace with 10 U.S.C. 2031, Junior Reserve Officers' Training Corps; 10 U.S.C. 3013, Secretary of the Army, and E.O. 9397 (SSN).

STORAGE:

Delete entry and replace with ‘Paper records in file folders’.

RETRIEVABILITY:

Delete entry and replace with ‘By name, Social Security number or service number’.

* * * * *

RETENTION AND DISPOSAL:

Delete entry and replace with ‘Records are maintained then destroyed 2 years after instructor's separation.’

* * * * *

A0145-2 TRADOC

SYSTEM NAME:

Junior ROTC/NDCC Instructor Files.

SYSTEM LOCATION:

U.S. Army Reserve Officers Training Corps Cadet Command, Fort Monroe, VA 23651-5000.

CATEGORIES OF INDIVIDUALS COVERED BY THE SYSTEM:

Assigned and potential instructors.

CATEGORIES OF RECORDS IN THE SYSTEM:

Instructor evaluation forms, qualification data, biographical sketches and similar or related documents.

AUTHORITY FOR MAINTENANCE OF THE SYSTEM:

10 U.S.C. 2031, Junior Reserve Officers' Training Corps; 10 U.S.C. 3013, Secretary of the Army, and E.O. 9397 (SSN).

PURPOSE(S):

To provide record of qualifications, experience, effectiveness, and similar related information on potential and/or assigned instructors and guest speakers.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

STORAGE:

Paper records in file folders.

RETRIEVABILITY:

By name, Social Security number and/or service number.

SAFEGUARDS:

Records are stored in locked cabinets or rooms, depending on location.

RETENTION AND DISPOSAL:

Records are maintained then destroyed 2 years after instructor's separation.

SYSTEM MANAGER(S) AND ADDRESS:

Commander, Fort Monroe, Privacy Act Officer, Fort Monroe, VA 23651-5000.

NOTIFICATION PROCEDURE:

Individuals seeking to determine whether information about themselves is contained in this record system should address written inquiries to the Commander, U.S. Army Reserve Officers Training Corps Cadet Command, Fort Monroe, VA 23651-5000.

Individual should provide full name, Social Security Number/military service number, duty position, academic department, and dates of service at the training activity to aid in the information search.

RECORD ACCESS PROCEDURES:

Individuals seeking access to information about themselves contained in this system should address written inquiries to the Commander, U.S. Army Reserve Officer Training Corps Cadet Command, Fort Monroe, VA 23651-5000.

Individual should provide the full name, Social Security Number/military service number, duty position, academic department, and dates of service at the training activity.

CONTESTING RECORD PROCEDURES:

The Army's rules for accessing records, contesting contents; and appealing initial agency determinations are contained in Army Regulation 340-21; 32 CFR part 505; or may be obtained from the system manager.

RECORD SOURCE CATEGORIES:

Staff and faculty of appropriate school, college, training center, or ROTC Region responsible for conduct of instruction.

EXEMPTIONS CLAIMED FOR THE SYSTEM:

None.

Dated: October 2, 2000.
L.M. Bynum,
Alternate OSD Federal Register Liaison Officer, Department of Defense.

[FR Doc. 00-25575 Filed 10-4-00; 8:45 am]

BILLING CODE 5001-10-M